ENVIRONMENTAL PROTECTION AGENCY

[FRL-9643-6]

Meeting of the Mobile Sources Technical Review Subcommittee

AGENCY: Environmental Protection Agency (EPA).

ACTION: Notice of meeting.

SUMMARY: Pursuant to the Federal Advisory Committee Act, Public Law 92-463, notice is hereby given that the Mobile Sources Technical Review Subcommittee (MSTRS) will meet in April 2012. The MSTRS is a subcommittee under the Clean Air Act Advisory Committee. This is an open meeting. The meeting will include discussion of current topics and presentations about activities being conducted by EPA's Office of Transportation and Air Quality. The preliminary agenda for the meeting and any notices about change in venue will be posted on the Subcommittee's Web site: http://www.epa.gov/air/caaac/mobile_sources.html. MSTRS listserver subscribers will receive notification when the agenda is available on the Subcommittee Web site. To subscribe to the MSTRS listserver, send a blank email to lists-mstrs@lists.epa.gov.

DATES: Thursday, April 19, 2011 from 9 a.m. to 4:30 p.m. Registration begins at 8:30 a.m.

ADDRESSES: The meeting is currently scheduled to be held at The Madison Hotel at 1177 15th St. NW., Washington, DC 20005. However, this date and location are subject to change and interested parties should monitor the Subcommittee Web site (above) for the latest logistical information. The hotel is located five blocks from the McPherson Square Metro Station.

FOR FURTHER INFORMATION CONTACT: For technical information: Jennifer Krueger, Designated Federal Officer, Transportation and Climate Division, Mailcode 6405J, U.S. EPA, 1200 Pennsylvania Ave. NW., Washington, DC 20460; Ph: 202-343-9302; email: Krueger.jennifer@epa.gov.

For logistical and administrative information: Ms. Cheryl Jackson, U.S. EPA, Transportation and Climate Division, Mailcode 6405J, U.S. EPA, 1200 Pennsylvania Ave. NW., Washington, DC 20460; 202-343-9653; email: jackson.cheryl@epa.gov.

Background on the work of the Subcommittee is available at: http://www.epa.gov/air/caaac/mobile_sources.html. Individuals or organizations wishing to provide comments to the Subcommittee should submit them to Ms. Krueger at the address above by April 6, 2012. The Subcommittee expects that public statements presented at its meetings will not be repetitive of previously submitted oral or written statements.

SUPPLEMENTARY INFORMATION: During the meeting, the Subcommittee may also hear progress reports from some of its workgroups as well as updates and announcements on activities of general interest to attendees.

For Individuals with Disabilities: For information on access or services for individuals with disabilities, please contact Ms. Krueger or Ms. Jackson (see above). To request accommodation of a disability, please contact Ms. Krueger or Ms. Jackson, preferably at least 10 days prior to the meeting, to give EPA as much time as possible to process your request.

Dated: February 29, 2012.
Margo Tsirigotis Oge,
Director, Office of Transportation and Air Quality.

[FR Doc. 2012-5390 Filed 3-5-12; 8:45 am]

BILLING CODE 6560-50-P